DEPARTMENT OF LABOR

Employment and Training Administration

[TA-W-62,341]

Nortel Networks Corporation Global Order Fulfillment, Research Triangle Park, NC; Notice of Negative Determination Regarding Application for Reconsideration

By application postmarked February 4, 2008, three petitioners requested administrative reconsideration of the Department's negative determination regarding eligibility to apply for Trade Adjustment Assistance (TAA), applicable to workers and former workers of the subject firm. The denial notice was signed on January 16, 2008 and published in the Federal Register on February 1, 2008 (73 FR 6213).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative TAA determination issued by the Department for workers of Nortel Networks Corporation, Global Order Fulfillment, Research Triangle Park, North Carolina was based on the finding that the worker group does not produce an article within the meaning of Section 222 of the Trade Act of 1974.

The petitioner states that the determination document incorrectly describes activities performed by the workers of the subject firm. The petitioner states that the workers fulfilled customer orders for telecommunications network “solutions” and not “software.”

The change in the description of the activities from “software” to “solutions” does not change the fact that the workers of the subject firm do not produce an article and do not directly support production of any kind. The investigation revealed that the workers of the subject firm receive, monitor the progression and process customer orders, collect data and ensure its accuracy and fulfillment. These activities do not constitute production of an article within the meaning of Section 222 of the Trade Act of 1974.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 25th day of March 2008.
Elliott S. Kushner,
Certifying Officer, Division of Trade Adjustment Assistance.

[FR Doc. E8-8979 Filed 4-23-08; 8:45 am]

BILLING CODE 4510-FN-P